DEPARTMENT OF STATE

[Public Notice: 8923]

60-Day Notice of Proposed Information Collection: Annual Report—J-NONIMMIGRANT Exchange Visitor Program

ACTION: Notice of request for public comments.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to 60 days from October 22, 2014.

ADDRESSES: You may submit comments by any of the following methods:

• Web: Persons with access to the Internet may use the Federal Docket Management System (FDMS) to comment on this notice by going to www.Regulations.gov. You can search for the document by entering “Public Notice 8923” in the Search bar. If necessary, use the Narrow by Agency filter option on the Results page.

• Email: JExchanges@State.gov

• Mail (paper, disk, or CD-ROM submissions): U.S. Department of State, ECA/EC, SA-5, Floor 5, 2200 C Street NW., Washington, DC 20522-0505, ATTN: Federal Register Notice Response. You must include the DS form number (if applicable), information collection title, and OMB control number in any correspondence.

FOR FURTHER INFORMATION CONTACT: Direct requests for additional information regarding the collection listed in this notice, including requests for copies of the proposed information collection and supporting documents, to Robin J. Lerner, Deputy Assistant Secretary for Private Sector Exchange, ECA/EC, SA-5, Floor 5, Department of State, 2200 C Street NW., Washington, DC 20522-0505, who may be reached on 202-632-3206 or at JExchanges@state.gov.

SUPPLEMENTARY INFORMATION:

• Title of Information Collection: Annual Report—J-NONIMMIGRANT Exchange Visitor Program.

• OMB Control Number: 1405-0151.

• Type of Request: Revision of a Currently Approved Collection.

• Originating Office: Bureau of Educational and Cultural Affairs, Office of Private Sector Exchange, ECA/EC.

• Form Number: Form DS-3097.

• Respondents: Designated J-NONIMMIGRANT program sponsors.

• Estimated Number of Respondents: 1,400.

• Estimated Number of Responses: 1,400.

• Average Hours per Response: 2 hours.

• Total Estimated Burden: 2,800 hours.

• Frequency: Annually.

• Obligation to Respond: Required to Obtain or Retain Benefits.

We are soliciting public comments to permit the Department to:

• Evaluate whether the proposed information collection is necessary for the proper performance of our functions;

• Evaluate the accuracy of our estimate of the burden of the proposed collection, including the validity of the methodology and assumptions used;

• Enhance the quality, utility, and clarity of the information to be collected;

• Minimize the reporting burden on those who are to respond, including the use of automated collection techniques or other forms of technology.

Abstract of Proposed Collection

Annual reports from designated program sponsors assist the Department in oversight and administration of the J-NONIMMIGRANT visa program. The reports provide qualitative data on the number of exchange participants an organization sponsored annually per category of exchange. The reports also provide a summary of the activities in which exchange visitors were engaged and indicate information about program effectiveness. Program sponsors include government agencies, academic institutions, and private sector not-for-profit and for-profit entities. Annual reports are completed through the Student and Exchange Visitor Information System (SEVIS) and then printed and signed by a sponsor official, and sent to the Department by mail or fax.

Dated: October 16, 2014.
Robin Lerner,
Deputy Assistant Secretary for Private Sector Exchange, Bureau of Educational and Cultural Affairs, U.S. Department of State.

[FR Doc. 2014-25180 Filed 10-21-14; 8:45 am]

BILLING CODE 4710-05-P